DEPARTMENT OF STATE

[Public Notice 5780]

Bureau of Educational and Cultural Affairs (ECA) Request for Grant Proposals: Fellowships in the Visual Arts, Film, and Architecture and Urban Design

Announcement Type: New Cooperative Agreement.

Funding Opportunity Number: ECA/PE/C/CU-07-60.

Catalog of Federal Domestic Assistance Number: 00.000.

Key Dates:

Application Deadline: May 29, 2007.

Executive Summary: The Bureau of Educational and Cultural Affairs will award up to three Cooperative Agreements to support programs for short residency and training programs in the United States for emerging and mid-career visual artists, film artists, and architecture and urban design professionals from selected countries. Each Cooperative Agreement may support artists from one or more of the three categories. The foreign participants will be nominated by the Public Affairs Sections of U.S. Embassies, in consultation with the grantee. Grantees will develop 30-60 day programs in the United States for the nominated participants, individually or in small groups. Each program should be built around a residency experience, which may be supplemented by other program elements designed to enhance and expand upon the activities of the residency. The goal of each project is to increase cross-cultural understanding internationally by providing program participants with an in-depth exposure to their professional discipline as practiced in the United States; outreach to U.S. colleagues and publics, and opportunities for creation and exhibition of their work.

I. Funding Opportunity Description:

Authority:

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose:

The Bureau of Educational and Cultural Affairs (ECA), Office of Citizen Exchanges, Cultural Programs Division offers a new funding opportunity for organizations to develop short residency and training programs in the United States for emerging and mid-career visual artists, film artists, and architecture and urban design professionals from selected countries. The Bureau expects to award up to three Cooperative Agreements, one for work with each category of artist, and expects each Cooperative Agreement to be approximately $250,000 to $500,000, including administrative costs. Each proposal may include artists from one of the three categories. Applicants may submit separate proposals in up to two categories. Contingent on the quality of the proposals submitted and their responsiveness to this RFGP, the Bureau anticipates providing funding under this RFGP for each of the three categories of artists. For the purpose of this RFGP, visual arts includes artistic production in all media of the visual arts; and film includes all aspects of production in film and electronic media, including features, short films, and documentaries.

The Bureau seeks to increase cross-cultural understanding internationally by providing program participants with an in-depth exposure to their professional discipline as practiced in the U.S.; outreach to U.S. colleagues and publics, and opportunities for creation and exhibition of their work. We will select innovative programs for emerging and mid-career professionals in the visual arts, film, and architecture and urban design that will introduce them to the diversity of cultural expression in the United States, in particular in their chosen medium of expression; provide them with hands-on and direct experience with new techniques and technology in the arts; offer opportunities for interaction with U.S. artists and other arts professionals in their discipline; assist them with the development of their careers; familiarize them with the business aspects of their respective fields, including measures to protect artists' rights; and offer them opportunities to share their work with U.S. audiences. Both practicing artists and curators and historians of the disciplines concerned may be included in these projects.

Proposals may include programs for individual artists or for defined small groups of artists. Each proposal will include several programs. The proposal should describe the proposed programs, explain how they reflect the diversity of U.S. culture, and show how they respond to the needs and interests of artists coming from a variety of countries and backgrounds. A program may be for artists in a specific discipline (painting, sculpture, animation, etc.) or for groups of artists working in different disciplines. In general, all participants will have at least limited capacity in English.

Each program may be 30-60 days in length. Applicants should explain their rationale for the length of the program proposed, keeping in mind that longer programs will of necessity reduce the total number of program participants. Programs should be centered around an artistic residency, customized to meet the needs and interests of the participants, that includes the foreign program participants as peers of U.S. colleagues. Applicants should include other activities that will enhance the residency experience, which may include site visits; meetings with U.S. artists, curators, designers, architects, film directors, cinematographers, and other professionals; public presentations of the work of the program participants; workshops for U.S. youth, artists, and arts educators. All programs should include the opportunity for the participants to create works and to share their creation with U.S. colleagues and with the public. Program activities complementary to the residency may take place in one or more locations in the U.S. This project does not include program activities outside the U.S. Participation in university courses for credit may not be included in proposals, and participation in conferences will be considered only if it is clearly relevant to the professional background of the participants and represents only a small part of a larger program. Programs that exclusively involve participation in summer institutes or other structured training situations are not acceptable and will not be funded.

The Bureau welcomes public presentation of the art work of program participants and recognizes its value to mutual understanding. Proposals should include opportunities for presentation and for public programs, such as panel discussions and other opportunities for program participants to discuss their work with U.S. audiences. While Bureau funds may be used to support public programming, long-standing ECA practice is that Bureau funds are not used for the public presentation of art works in the United States, including such costs as shipping, framing, installation, gallery rental, or security. Cost sharing may be used for presentation costs and should be so noted in the budget.

Proposals should include sample programs with day-by-day schedules. Proposals should also indicate the willingness and ability of the applicant to design or adjust specific programs to meet the professional goals of the program participants. Key U.S. partner institutions should be identified and, where possible, letters of support should be provided in the proposal.

Program participants will be emerging and mid-career professional artists in the visual arts, film, and architecture and urban design, generally aged 20-40 years from countries identified by the Bureau. ECA intends that the program will be highly competitive and that the Participants will be nominated by the Public Affairs Section of U.S. Embassies, in consultation with local cultural institutions, the ECA program office and the grantee. Proposals should describe the proposed consultative role of local cultural institutions and the grantee in the nomination and selection process.

Nominations will demonstrate the candidate's record of accomplishment in the chosen discipline, the benefits he or she will gain from the program, and the impact on cultural relations between the U.S. and the country concerned. (Grantees will be encouraged to propose names to the Public Affairs section in target countries as part of the recruitment process.) In general, participants will not have extensive or recent experience in the U.S. The grantee may request nominations from a group of countries for a specific program and, if the total number of nominations received is greater than the funding allows for that program, may select from among the nominees, with the approval of the program office.

Applicants may suggest preferred countries and regions from which to draw participants, however, because the priority countries may change at any time, applicants must state that they are prepared to work with program participants from any country or region. ECA will determine the priority or target countries for recruitment of program participants. Priority countries will be those in all world regions of greatest importance to the Department of State's public diplomacy mission of building mutual understanding. Currently, our key priorities for cultural exchange programs (subject to change as noted) include countries with significant Muslim populations in North Africa, the Middle East, South and Central Asia, Southeast Asia, and Europe; China, selected countries in Latin America, and certain major countries in Africa. However, while priority countries may change, it is unlikely that we will include countries whose artistic community has substantial and ongoing contact with their counterparts in the U.S.

Currently, priority countries for this project are:

Africa (sub-Saharan): Kenya, Senegal, South Africa, Zimbabwe.

East Asia and the Pacific: China, Indonesia, Malaysia, Philippines.

Europe: Azerbaijan, Turkey.

Near East and North Africa: Algeria, Egypt, Iran, Iraq, Jordan, Lebanon, Morocco, Saudi Arabia, Syria, West Bank/Gaza, Yemen.

South and Central Asia: India, Kyrgyzstan, Nepal, Pakistan, Tajikistan, and Uzbekistan.

Western Hemisphere: Brazil, Colombia, Ecuador, Peru, Venezuela.

Potential program participants will have at least a working knowledge of English, sufficient to carry out the residency program without interpretation. Applicants may propose interpretation for selected ancillary program elements. Normally, the applicant will provide the interpreter for these activities; costs for the interpreter may be included in the budget.

We expect that this project will lead to greater artist-to-artist and institution-to-institution contact and collaboration across international borders. Proposals should describe mechanisms for measuring, supporting and enhancing this cooperation during the grant period and beyond.

In the Cooperative Agreements issued under this RFGP, the Bureau program office (ECA/PE/C/CU—the Cultural Programs Division) and U.S. Embassies abroad are substantially involved in program activities above and beyond routine grant monitoring. ECA program office and U.S. Embassy activities and responsibilities for this program are as follows:

• ECA will determine the priority or target countries for recruitment of program participants. Priority countries will be those in all world regions of greatest importance to the Department of State's public diplomacy mission of building mutual understanding.

• Embassies will nominate all program participants, in consultation with local cultural institutions, ECA and the grantee. The grantee may propose names for consideration by Embassy Public Affairs Sections and will have the opportunity to review the biographic information submitted and advise if a specific nominee does not appear to have attained an appropriate professional level.

• The ECA program office will review the proposed program schedules for each program participant or group of participants.

• Embassies will showcase the participating artists and their work, including work developed in or as a result of their experience in the U.S., following the artists' return to the home country.

II. Award Information

Type of Award: Cooperative Agreement. ECA's level of involvement in this program is listed under number I above.

Fiscal Year Funds: FY-2007.

Approximate Total Funding: $750,000-$1.5 million.

Approximate Number of Awards: Up to three.

Approximate Average Award: $250,000-$500,000.

Floor of Award Range: $250,000.

Anticipated Award Date: Pending availability of funds, September 15, 2007.

Anticipated Project Completion Date: September 15, 2009.

Additional Information: Pending successful implementation of this program and the availability of funds in subsequent fiscal years, it is ECA's intent to renew the cooperative agreements for two additional fiscal years, before openly competing them again.

III. Eligibility Information

III.1. Eligible Applicants

Applications may be submitted by public and private non-profit organizations meeting the provisions described in Internal Revenue Code section 26 U.S.C. 501(c)(3).

III.2. Cost Sharing or Matching Funds

There is no minimum or maximum percentage required for this competition.

However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Bureau grant guidelines require that organizations with less than four years experience in conducting international exchanges be limited to $60,000 in Bureau funding. ECA anticipates awarding three cooperative agreements, in an amount of $250,000 or more to support program and administrative costs required to implement this exchange program. Therefore, organizations with less than four years experience in conducting international exchanges are ineligible to apply under this competition. The Bureau encourages applicants to provide maximum levels of cost sharing and funding in support of its programs.

(b) Arts experience: Applicants must demonstrate expertise in, and show experience programming in the artistic disciplines (contemporary visual arts, fiction or documentary film, and/or architecture and design) appropriate to their proposal, as well as experience in the administration of substantial residency programs in the arts.

(c) Iran vetting: The Department of State is expanding its cultural exchange programs with the people of Iran. ECA has received a license, under the Iran sanctions regulations, from the Department of the Treasury, Office of Foreign Assets Control (OFAC) covering its own and its grantees' exchange programs. A condition of that license is that grantees must submit information on their Boards of Directors and key personnel involved in the project, together with similar information on their sub-grantees, for vetting. Because it is likely that participants from Iran will be included in every cooperative agreement funded under this RFGP, all applicants must be vetted before an award can be made. For further information, see section VI.1.b below.

IV. Application and Submission Information

Note: Please read the complete Federal Register announcement before sending inquiries or submitting proposals. Once the RFGP deadline has passed, Bureau staff may not discuss this competition with applicants until the proposal review process has been completed.

IV.1 Contact Information To Request an Application Package

Please contact Ms. Proctor, Cultural Programs Division, ECA/PE/C/CU, U.S. Department of State, SA-44, 301 4th Street, SW., Washington, DC 20547, 202-203-7488, ProctorLM@state.gov to request a Solicitation Package. Please refer to the Funding Opportunity Number ECA/PE/C/CU-07-60 located at the top of this announcement when making your request.

Alternatively, an electronic application package may be obtained from grants.gov. Please see section IV.3f for further information.

The Solicitation Package contains the Proposal Submission Instruction (PSI) document which consists of required application forms, and standard guidelines for proposal preparation.

Please refer to the Funding Opportunity Number ECA/PE/C/CU-07-60 located at the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and 10 copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

V.3d.1 Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

IV.3e.2. Allowable costs for the program include the following:

1. Travel. International and domestic airfare; visas; transit costs; ground transportation costs. Please note that all air travel must be in compliance with the Fly America Act. There is no charge for J-1 visas for participants in Bureau sponsored programs.

2. Per Diem. It is anticipated that residency programming will be economical with costs substantially below published Federal per diem rates. For U.S.-based programming outside the residency site, organizations may use, as a maximum, the published Federal per diem rates for individual U.S. cities. Domestic per diem rates may be accessed at: http://policyworks.gov/org/main/mt/homepage/mtt/perdiem/perd03d.html. ECA requests applicants to budget realistic costs that reflect the local economy and do not exceed Federal per diem rates. No programming in foreign areas is anticipated under this RFGP.

3. Interpreters. Interpreters will not be authorized for the residency program, as participants will be expected to have sufficient English for the residency. Interpreters may be authorized, where justified, for selected activities complementary to the residency itself. Applicants should hire their own locally based interpreters for these activities. State Department interpreters will not normally be available for these activities.

4. Book and Cultural Allowances. Foreign participants are entitled to a one-time cultural allowance of $150 per person, plus a book allowance of $50. U.S. program staff, trainers or participants are not eligible to receive these benefits.

5. Consultants. Consultants may be used to provide specialized expertise or to make presentations. Honoraria rates should not exceed $250 per day. Organizations are encouraged to cost-share rates that would exceed that figure. Subcontracting organizations may also be employed, in which case the written agreement between the prospective grantee and sub-grantee should be included in the proposal. Such sub-grants should detail the division of responsibilities and proposed costs, and subcontracts should be itemized in the budget.

6. Room Rental. The rental of meeting space should not exceed $250 per day. Any rates that exceed this amount should be cost shared.

7. Materials. Proposals may contain costs to purchase, develop and translate materials for participants. Costs for high quality translation of materials should be anticipated and included in the budget. Grantee organizations should expect to submit a copy of all program materials to ECA, and ECA support should be acknowledged on all materials developed with its funding.

8. Equipment. Applicants may propose to use grant funds to purchase equipment, such as computers and printers; these costs should be justified in the budget narrative. Costs for furniture are not allowed.

9. Working Meal. Normally, no more than one working meal may be provided during the program. Per capita costs may not exceed $15-$25 for lunch and $20-$35 for dinner, excluding room rental. The number of invited guests may not exceed participants by more than a factor of two-to-one.

10. Return Travel Allowance. A return travel allowance of $70 for each foreign participant may be included in the budget. This allowance would cover incidental expenses incurred during international travel.

11. Health Insurance. Foreign participants will be covered during their participation in the U.S. program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. In-country Travel Costs for Visa Processing Purposes. Given the requirements associated with obtaining J-1 visas for ECA-supported participants, applicants should include costs for any travel associated with visa interviews or DS-2019 pick-up.

13. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources.

Please refer to the Solicitation Package for complete budget guidelines and formatting instructions.

IV.3F. Application Deadline and Methods of Submission:

Application Deadline Date: Tuesday, May 29, 2007.

Reference Number: ECA/PE/C/CU-07-60.

Methods of Submission:

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and ten (10) copies of the application should be sent to: U.S. Department of State SA-44, Bureau of Educational and Cultural Affairs, Ref.: ECA/PE/C/CU-07-60, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Section(s) at the U.S. embassy(ies) for its(their) review.

IV.3f.2 Submitting Electronic Applications

Applicants have the option of submitting proposals electronically through Grants.gov (http://www.grants.gov).

Complete solicitation packages are available at Grants.gov in the “Find” portion of the system. Please follow the instructions available in the ‘Get Started’ portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support

Contact Center Phone: 800-518-4726.

Business Hours: Monday-Friday, 7 a.m.-9 p.m. Eastern Time.

E-mail: support@grants.gov.

Applicants have until midnight (12 a.m.), Washington, DC time, of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3f.3 An applicant may submit no more than two proposals under this competition; only one proposal may be submitted for each category of artists included in this RFGP (visual arts; film; architecture and urban design).

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Proposals must show high artistic merit of the organizations and activities included.

2. Institutional Capacity: The institution must demonstrate a successful record of providing residency opportunities for visual artists, film artists, and/or architects and urban designers, as appropriate to the proposal. The institution must show its professional capacity to manage high-quality arts exchange programs. Proposed personnel and institutional resources should be adequate and appropriate to achieve the program or project's goals, with sufficient background in the disciplines concerned. Proposals should demonstrate an institutional record of successful exchange programs in the arts, including responsible fiscal management.

3. Program Planning: Detailed agenda and relevant work plan should demonstrate substantive undertakings and logistical capacity. Agenda and plan should adhere to the program overview and guidelines described above. Program objectives should be clearly stated, reasonable, feasible, and flexible. Proposals should explain how they will be adapted to meet the needs of participants from countries or world regions selected by ECA, and clearly demonstrate how the institution will meet the program's objectives and plan.

4. Cost-effectiveness and Cost-sharing: The overhead and administrative components of the proposal, including salaries and honoraria, should be kept as low as possible. All other items should be necessary and appropriate. Proposals should maximize cost-sharing through other private sector support as well as institutional direct funding contributions.

5. Support of Diversity: Proposals should demonstrate substantive support of the Bureau's policy on diversity. Achievable and relevant features should be cited in both program administration (selection of participants, program venue and audience, and program evaluation) and program content (orientation and wrap-up sessions, program meetings, resource materials and follow-up activities).

6. Project Evaluation: Proposals should include a plan to evaluate the program's success, both as the activities unfold and at the end of the program. A draft survey questionnaire or other technique plus description of a the methodology used to link outcomes to original project objectives is recommended.

VI. Award Administration Information

VI.1a. Award Notices:

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.1b. Iran Vetting:

A critical component of the Administration's Iran policy is the support for indigenous Iranian voices calling for freedom. President Bush himself has pledged this support and the State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. §§ 2339A and 2339B; Executive Order 13224; and Homeland Security Presidential Directive 6. These licensing conditions mandate that the Department conduct a vetting of potential Iran democracy grantees and sub-grantees for counter-terrorism purposes. To conduct this vetting the Department will collect information from grantees and sub-grantees regarding the identity and background of their key employees and Boards of Directors.

Should your proposal be ultimately recommended for funding, to fulfill these requirements and include Iranians in this proposed exchange, your organization will need to submit the names of your Board and principle officers as well as the names of any sub-grantees for the vetting described above on Form DS-4100 which will be provided at the appropriate time.

Note: To assure that planning for the inclusion of Iran complies with requirements, please contact Mr. Mark Larsen at 202-453-8154 or Mr. Daniel Schuman at 202-453-8167 for additional information.

VI.2 Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://exchanges.state.gov/education/grantsdiv/terms.htm#articleI.

VI.3. Reporting Requirements:

You must provide ECA with a hard copy original plus two copies of the following reports:

1. A final program and financial report no more than 90 days after the expiration of the award;

2. Quarterly program and financial reports showing activities carried out and expenses incurred in the calendar quarter.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement: For film programs, contact Ms. Susan Cohen at 202-203-7509, CohenSL@state.gov. For visual arts or architecture and design programs, contact: Ms. Leanne Mella at 202-203-7497, MellaLA@state.gov. The address for both program officers is Cultural Programs Division, ECA/PE/C/CU, U.S. Department of State, SA-44, 301 4th Street, SW., Room 567, Washington, DC 20547.

All correspondence with the Bureau concerning this RFGP should reference the above title and number ECA/PE/C/CU-07-60.

Please read the complete Federal Register announcement before sending inquiries or submitting proposals. Once the RFGP deadline has passed, Bureau staff may not discuss this competition with applicants until the proposal review process has been completed.

VIII. Other Information

Notice:

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 12, 2007.
C. Miller Crouch,
Principal Deputy Assistant Secretary, Bureau of Educational and Cultural Affairs, Department of State.

[FR Doc. E7-7462 Filed 4-18-07; 8:45 am]

BILLING CODE 4710-05-P